DEPARTMENT OF ENERGY

Federal Energy Regulatory Commission

[Docket No. ER00-3727-003, et al.]

Potomac Electric Power Company, et al.; Electric Rate and Corporate Regulation Filings

January 30, 2001.

Take notice that the following filings have been made with the Commission:

1. Potomac Electric Power Company

[Docket No. ER00-3727-003]

Take notice that on January 17, 2001, Potomac Electric Power Company (Pepco) tendered for filing a supplement to its December 22, 2000, filing. Pepco hereby submits signature pages with its executed Service Agreement No. 20 under Pepco's FERC Electric Tariff, First Revised Volume No. 5 with Southern Company Energy Marketing L.P., (SCEM). The service agreement had been previously accepted for filing by the Commission in Potomac Electric Power Company, et al, 93 FERC ¶ 61,240 (2000).

The service agreement became effective on December 19, 2000.

Comment date: February 9, 2001, in accordance with Standard Paragraph E at the end of this notice.

2. Entergy Services, Inc.

[Docket No. ER01-1046-000]

Take notice that on January 25, 2001, Entergy Services, Inc., on behalf of Entergy Louisiana, Inc., tendered for filing an Interconnection and Operating Agreement with Duke Energy Ruston, LLC (Duke Ruston), and a Generator Imbalance Agreement with Duke Ruston.

Comment date: February 15, 2001, in accordance with Standard Paragraph E at the end of this notice.

3. Central Maine Power Company

[Docket No. ER01-1047-000]

Take notice that on January 25, 2001, Central Maine Power Company (CMP), tendered for filing as an initial rate schedule pursuant to section 35.12 of the Federal Energy Regulatory Commission's (the Commission) Regulations, 18 CFR 35.12, an executed interconnection agreement (the Agreement) between CMP and Regional Waste System, Inc., (RWS).

The Agreement is intended to replace the Purchased Power Agreement between the parties, which expired on December 31, 2000.

As such, CMP is requesting that the Agreement become effective January 1, 2001.

Copies of this filing have been served upon the Commission, the Maine Public Utilities Commission, and RWS.

Comment date: February 15, 2001, in accordance with Standard Paragraph E at the end of this notice.

4. Entergy Services, Inc.

[Docket No. ER01-1048-000]

Take notice that on January 25, 2001, Entergy Services, Inc., on behalf of Entergy Gulf States, Inc., tendered for filing a modified and redesignated Interconnection and Operating Agreement with Acadia Power Partners, LLC (Acadia), and a redesignated Generator Imbalance Agreement with Acadia.

Comment date: February 15, 2001, in accordance with Standard Paragraph E at the end of this notice.

5. Central Vermont Public Service Corporation

[Docket No. ER01-1049-000]

Take notice that on January 25, 2001, Central Vermont Public Service Corporation (Central Vermont), tendered for filing a revised Network Integration Service Agreement and Network Operating Agreement (Revised Service Agreement) with Vermont Electric Cooperative, Inc. (VEC), First Revised Service Agreement No. 15 under FERC Electric Tariff, First Revised Volume No. 7. The Revised Service Agreement includes a new delivery point and updates the various loads and resources of VEC.

Copies of the filing were served upon VEC and the Vermont Public Service Board.

Comment date: February 15, 2001, in accordance with Standard Paragraph E at the end of this notice.

6. Commonwealth Edison Company

[Docket No. ER01-1050-000]

Take notice that on January 25, 2001, Commonwealth Edison Company (ComEd), tendered for filing one amended Network Integration Transmission Service Agreement (NSA) between ComEd and Central Illinois Light Co., (CILR). ComEd asks that the CILR NSA supersede and be substituted for the NSA with CILR previously filed on November 22, 1999 in Docket No. ER00-5622-000. The NSA has been amended to change the termination date set forth in Section 3.2. The NSA governs ComEd's provision of network service to serve retail load under the terms of ComEd's Open Access Transmission Tariff (OATT).

ComEd requests an effective date of January 1, 2001 for the CILR NSA and therefore seeks waiver of the Commission's notice requirements.

Copies of this filing were served on CILR.

Comment date: February 15, 2001, in accordance with Standard Paragraph E at the end of this notice.

7. Elwood Energy II, LLC

[Docket No. ER01-1051-000]

Take notice that on January 25, 2001, Elwood Energy II, LLC tendered for filing its proposed FERC Electric Market-Based Sales Tariff and request for certain waivers of the Commission's Regulations.

Comment date: February 15, 2001, in accordance with Standard Paragraph E at the end of this notice.

8. Southern Company Services, Inc.

[Docket No. ER01-1052-000]

Take notice that on January 25, 2001, Southern Company Services, Inc., by and on behalf of Alabama Power Company, Georgia Power Company, Mississippi Power Company, Gulf Power Company and Savannah Electric and Power Company, tendered for filing letter agreements with Florida Power and Light Company, Florida Power Corporation and Jacksonville Electric Authority. The purpose of the filed letter agreements is to address certain fuel accounting procedures for use in connection with unit power sales agreements.

Comment date: February 15, 2001, in accordance with Standard Paragraph E at the end of this notice.

9. Peco Energy Company

[Docket No. ER01-1053-000]

Take notice that on January 25, 2001, PECO Energy Company (PECO), tendered for filing under section 205 of the Federal Power Act, 16 U.S.C. S 792 et seq., a Power Team Confirmation Agreement dated December 19, 2000 with SMARTENERGY.com (SMARTENERGY) under PECO's FERC Electric Tariff Original Volume No. 1 (Tariff).

PECO requests an effective date of January 26, 2001 for the Agreement.

PECO states that copies of this filing have been supplied to SMARTENERGY.com and to the Pennsylvania Public Utility Commission.

Comment date: February 15, 2001, in accordance with Standard Paragraph E at the end of this notice.

10. American Transmission Company LLC

[Docket No. ER01-1054-000]

Take notice that on January 25, 2001, American Transmission Company LLC (ATCLLC), tendered for filing a Network Operating Agreement and Network Integration Transmission Service Agreement between ATCLLC and Prairie du Sac Utilities.

ATCLLC requests an effective date of January 1, 2001.

Comment date: February 15, 2001, in accordance with Standard Paragraph E at the end of this notice.

11. Elwood Energy III, LLC

[Docket No. ER01-1055-000]

Take notice that on January 25, 2001, Elwood Energy III, LLC tendered for filing its proposed FERC Electric Market-Based Sales Tariff and its request for certain waivers of the Commission's Regulations.

Comment date: February 15, 2001, in accordance with Standard Paragraph E at the end of this notice.

12. Ameren Services Company

[Docket No. ER01-1056-000]

Take notice that on January 25, 2001, Ameren Services Company (ASC), tendered for filing Service Agreements for Firm Point-to-Point Transmission Service and Non-Firm Point-to-Point Transmission Service between ASC and Madison Gas and Electric Company. ASC asserts that the purpose of the Agreements is to permit ASC to provide transmission service to Madison Gas and Electric Company pursuant to Ameren's Open Access Transmission Tariff.

Comment date: February 15, 2001, in accordance with Standard Paragraph E at the end of this notice.

13. Automated Power Exchange, Inc.

[Docket No. ER01-1057-000]

Take notice that on January 25, 2001, Automated Power Exchange, Inc. (APX), tendered for filing a rate schedule under which APX will offer power exchange services in the APX New England Market.

Comment date: February 15, 2001, in accordance with Standard Paragraph E at the end of this notice.

14. Automated Power Exchange, Inc.

[Docket No. ER01-1058-000]

Take notice that on January 25, 2001, Automated Power Exchange, Inc. (APX), tendered for filing a new rate schedule under which APX will offer power exchange services in the APX PJM Market.

APX requests that the new APX Rate Schedule be accepted to become effective as of January 26, 2001.

Comment date: February 15, 2001, in accordance with Standard Paragraph E at the end of this notice.

15. Ameren Services Company

[Docket No. ER01-1059-000]

Take notice that on January 25, 2001, Ameren Services Company (ASC), tendered for filing Service Agreements for Long-Term Firm Point-to-Point Transmission Services between ASC and Ameren Energy, as Agent for Ameren Services Company and Western Resources, Cinergy Services, Inc., Tenaska Power Services Company, Xcel Energy, Illinois Power Company and Reliant Energy Services, Inc. ASC asserts that the purpose of the Agreements is to permit ASC to provide transmission service to the parties pursuant to Ameren's Open Access Transmission Tariff.

Comment date: February 15, 2001, in accordance with Standard Paragraph E at the end of this notice.

16. PPL Montour, LLC

[Docket No. EG01-43-000]

Take notice that on January 18, 2001, as amended on January 29, 2001, PPL Montour, LLC tendered for filing an Amended and Restated Application for Redetermination of Status as an Exempt Wholesale Generator amending previous filings made on December 5 and December 6, 2000.

Comment date: February 20, 2001, in accordance with Standard Paragraph E at the end of this notice. The Commission will limit its consideration of comments to those that concern the adequacy or accuracy of the application.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-2952 Filed 2-2-01; 8:45 am]

BILLING CODE 6717-01-P